DEPARTMENT OF LABOR

Office of the Secretary

Submission for OMB Review; Comment Request

April 10, 2003.

The Department of Labor (DOL) has submitted the following public information collection request (ICR) to the Office of Management and Budget (OMB) for review and approval in accordance with the Paperwork Reduction Act of 1995 (Pub. L. 104-13, 44 U.S.C. Chapter 35). A copy of this ICR, with applicable supporting documentation, may be obtained by calling the Department of Labor. To obtain documentation contact Darrin King on (202) 693-4129 or E-Mail: King-Darrin@dol.gov.

Comments should be sent to Office of Information and Regulatory Affairs, Attn: OMB Desk Officer for ESA, Office of Management and Budget, Room 10235, Washington, DC 20503 ((202) 395-7316), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employment Standards Agency (ESA).

Type of Review: New collection.

Title: Statement Recovery Forms.

OMB Number: 1215-0NEW.

Affected Public: Business or other for-profit and Individuals or households.

Frequency: As needed.

Number of Respondents: 3,200.

Form | Annual responses | Average response time (hours) | Annual burden hours
CA/EN-1108 | 2,720 | 0.5 | 1,360
EB/EN-1108 | 160 | 0.5 | 80
CA/EN-1122 | 320 | 0.25 | 80
Total | 3,200 |  | 1,520

Total Annualized Capital/Startup Costs: $0.

Total Annual Costs (operating/maintaining systems or purchasing services): $1,280.

Description: The information collected through Forms CA/EN-1108, EB/EN-1108 and CA/EN-1122 will be used by the U.S. Department of Labor to determine the amount of refund due to the United States out of the proceeds of an action asserted by an injured Federal employee against a liable third party for a compensable injury.

Ira L. Mills,
Departmental Clearance Officer.

[FR Doc. 03-9448 Filed 4-16-03; 8:45 am]

BILLING CODE 4510-CH-P